ENVIRONMENTAL PROTECTION AGENCY

[EPA-HQ-OPP-2009-1017; FRL-9396-5]

Notice of Receipt of Requests To Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. This notice announces a request from Syngenta Crop Protection, LLC to voluntarily cancel the last two remaining tralkoxydim products registered for use in the United States. EPA intends to grant these requests at the close of the comment period for this announcement unless the Agency receives substantive comments within the comment period that would merit its further review of the requests, or unless the registrants withdraw their requests. If these requests are granted, any sale, distribution, or use of products listed in this notice will be permitted after the registration has been canceled only if such sale, distribution, or use is consistent with the terms as described in the final order.

DATES: Comments must be received on or before September 20, 2013.

ADDRESSES: Submit your comments, identified by docket identification (ID) number EPA-HQ-OPP-2009-1017, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal request by mail to: Pesticide Re-Evaluation Division (7508P), Office of Pesticide Programs, Environmental Protection Agency, 1200 Pennsylvania Ave. NW., Washington, DC 20460-0001. ATTN: John W. Pates, Jr.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the agency taking?

This notice announces receipt by the Agency of requests from registrants to cancel 29 pesticide products registered under FIFRA section 3 or 24(c). These registrations are listed in sequence by registration number (or company number and 24(c) number) in Tables 1a and 1b of this unit.

This notice also announces receipt by EPA of requests from the registrant Syngenta Crop Protection, LLC (Syngenta) to cancel the last two remaining tralkoxydim product registrations. Tralkoxydim is a systemic, postemergence herbicide registered for agricultural use to selectively control certain annual grass weeds in wheat, barley, and triticale. Tolerances are currently established for tralkoxydim residues in or on the raw agricultural commodities barley and wheat (40 CFR 180.548). There are no residential uses currently registered for tralkoxydim. The registration review process for tralkoxydim began in September 2011, with the issuance of the Preliminary Work Plan for Registration Review in the docket EPA-HQ-OPP-2011-0706 for a 60-day comment period. The Tralkoxydim Final Work Plan for Registration Review was completed in February 2012, and the registration review Data Call-In was issued in February 2013. Syngenta is currently the only registrant of tralkoxydim products in the United States. In a letter to EPA, dated August 2, 2013, Syngenta requested voluntary cancellation of two tralkoxydim end-use products (EPA Registration Nos. 000100-01105 and 000100-01106). These are the last two tralkoxydim products registered for use in the United States. EPA is not proposing any tolerance actions for tralkoxydim at this time. If any tolerance actions become necessary in the future, there will be an announcement in the Federal Register and there will be a public comment period on the proposed action.

Unless the Agency determines that there are substantive comments that warrant further review of the requests or the registrants withdraw their requests, EPA intends to issue an order in the Federal Register canceling all of the affected registrations.

Table 1a—Registrations With Pending Requests for Cancellation
Registration No. | Product name | Chemical name
000100-01125 | Impasse Termite System | Lambda-cyhalothrin.
000100-01156 | Impasse Premix GR | Lambda-cyhalothrin.
000100-01166 | Impasse Termite Blocker | Lambda-cyhalothrin.
000264-01048 | EXP3 Seed Applied Nematicide/Insecticide | Thiodicarb.
000432-01237 | BES Garden Dust 10% | Carbaryl.
000432-01238 | AES Carbaryl Insecticide Spray-RTU | Carbaryl.
000432-01239 | BES Garden Dust 5% | Carbaryl.
000432-01244 | AES Sevin Granules Ant, Flea, Tick & Grub Killer (1% Sevin) | Carbaryl.
001022-00563 | Chapco KD | Potassium dimethyldithiocarbamate.
001022-00574 | DCD-SDDC | Sodium dimethyldithiocarbamate.
001022-00577 | Buffalo System II | Sodium dimethyldithiocarbamate.
009688-00296 | Chemsico 0.51% Granular Propiconazole | Propiconazole.
010807-00448 | Country Vet Flea & Tick Fogger with Growth Inhibitor | MGK 264, Pyrethrins (NO INERT USE), Pyriproxyfen, Permethrin.
010807-00454 | Country Vet Fly Insecticide & Repellent for Horses | Stabilene, Pyrethrins (NO INERT USE), Piperonyl butoxide.
010807-00466 | CB Country Vet 80 | Piperonyl butoxide, Pyrethrins (NO INERT USE).
010807-00469 | Country Vet Fogger with Esfenvalerate | Pyrethrins (NO INERT USE), Piperonyl butoxide, Esfenvalerate, MGK 264.
011556-00121 | Advantage TM 110 | Imidacloprid.
040391-00010 | Entech Fog-10 | MGK 264, Piperonyl butoxide, Pyrethrins (NO INERT USE).
060061-00107 | Woodtreat XL Sapstain Control Chemical | 1-Decanaminium, N-decyl-N,N-dimethyl-, chloride and Propiconazole.
060061-00114 | Woodtreat P Sapstain Control Chemical | Propiconazole.
060061-00121 | Woodtreat XP Sapstain Control Product | Propiconazole and Carbamic acid, butyl-, 3-iodo-2-propynyl ester.
060061-00124 | Valvtect Marine Premium Diesel With Bioguard Additive | Morpholine, 4,4′-(2-ethyl-2-nitro-1,3-propanediyl)bis-, 4-(2-Nitrobutyl)morpholine.
073049-00450 | Dinotefuran Fly Bait | Dinotefuron.
083558-00005 | Paraquat Dichloride Technical | Paraquat dichloride.
MD-010001 | Sevin Brand XLR Plus Carbaryl Insecticide | Carbaryl.
PA-010002 | Sevin XLR Plus Carbaryl Insecticide | Carbaryl.
WI-110001 | Starcane Ultra Herbicide | Fluroxypyr 1-methylheptyl ester.

Table 1b—Tralkoxydim Registrations With Pending Requests for Cancellation
Registration No. | Product name | Chemical name
000100-01105 | Achieve 40DG Herbicide | Tralkoxydim.
000100-01106 | Achieve 80DG Herbicide | Tralkoxydim.

Table 2 of this unit includes the names and addresses of record for all registrants of the products in Table 1a and Table 1b of this unit, in sequence by EPA company number. This number corresponds to the first part of the EPA registration numbers of the products listed in this unit.

Table 2—Registrants Requesting Voluntary Cancellation
EPA company No. | Company name and address
100 | Syngenta Crop Protection, LLC, 410 Swing Road, P.O. Box 18300, Greensboro, NC 27419-8300.
264 MD010001, PA010002 | Bayer Cropscience LP, 2 T.W. Alexander Drive, P.O. Box 12014, Research Triangle Park, NC 27709.
432 | Bayer Environmental Science, A Division of Bayer Cropscience LP, 2 T.W. Alexander Drive, P.O. Box 12014, Research Triangle Park, NC 27709.
1022 | IBC Manufacturing Co., 416 E. Brooks Road, Memphis, TN 38109.
9688 | Chemsico, A Division of United Industries Corp., P.O. Box 142642, St. Louis, MO 63114-0642.
10807 | Amrep, Inc, 990 Industrial Park Drive, Marietta, GA 30062.
11556 | Bayer Healthcare, LLC, P.O. Box 390, Shawnee Mission, KS 66201-0390.
40391 | Entech Systems Corporation, Agent: Regguide, 509 Tower Valley Drive, Hillsboro, MO 63050.
60061 | Kop-Coat, Inc., 3020 William Pitt Way, Pittsburgh, PA 15238.
73049 | Valent Biosciences Corporation, Environmental Science Division, 870 Technology Way, Libertyville, IL 60048-6316.
83558 | Celsius Property B.V., Amsterdam (NL), Agent: Makhteshim Agan of North America, Inc., 3120 Highwoods Blvd., Suite 100, Raleigh, NC 27604.
WI-110001 | Dow Agrosciences LLC, 9330 Zionsville Road, Suite 308/2E, Indianapolis, IN 46268-1054.

III. What is the agency's authority for taking this action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II. have requested that EPA waive the 180-day comment period. Accordingly, EPA will provide a 30-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with the pesticide products listed in Table 1a and Table 1b of Unit II. of this notice, the proposed existing stocks provisions for these products are as follows.

A. For All Products Identified in Table 1a in Unit II.

EPA anticipates allowing registrants to sell and distribute existing stocks of these products for 1-year after publication of the Cancellation Order in the Federal Register. Thereafter, registrants will be prohibited from selling or distributing the pesticides identified in Table 1a of Unit II., except for export consistent with FIFRA section 17 or for proper disposal. Persons other than registrants will generally be allowed to sell, distribute, or use existing stocks until such stocks are exhausted, provided that such sale, distribution, or use is consistent with the terms of the previously approved labeling on, or that accompanied, the canceled products.

B. For All Tralkoxydim Products Identified in Table 1b in Unit II.

EPA anticipates allowing the registrant to continue to sell and distribute the existing stocks of these products until November 1, 2014. Thereafter, registrants will be prohibited from selling or distributing the pesticides identified in Table 1b of Unit II., except for export consistent with FIFRA section 17 or for proper disposal. Additionally, persons other than the registrant may sell, distribute, or use existing stocks of these products until existing stocks are exhausted, provided that such sale, distribution, or use is consistent with the terms of the previously approved labeling on, or that accompanied, the canceled products.

List of Subjects

Environmental protection, Pesticides and pests.

Dated: August 14, 2013.
Richard P. Keigwin, Jr.,
Director, Pesticide Re-Evaluation Division, Office of Pesticide Programs.

[FR Doc. 2013-20406 Filed 8-20-13; 8:45 am]

BILLING CODE 6560-50-P